DEPARTMENT OF HEALTH AND HUMAN SERVICES

Administration for Children and Families

Administration on Children, Youth and Families

AGENCY: Family and Youth Services Bureau, ACYF, ACF, DHHS.

ACTION: Notice to award a replacement grant.

CFDA#: 93.616.

Legislative Authority: Social Security Act, Section 439, as amended by the Child and Family Services Improvement Act of 2006 (Pub. L. 109-288).

Amount of Award: $85,000.

Project Period: September 30, 2008-September 29, 2009.

SUMMARY: The Administration on Children, Youth and Families (ACYF), Family and Youth Services Bureau (FYSB), herein announces the awarding of a Mentoring Children of Prisoners (MCP) replacement grant to Mother Seton House, Inc., in Virginia Beach, VA. A prior grantee recently relinquished their MCP grant. With the funds provided, Mother Seton House, Inc., will continue the provision of mentoring services for children of incarcerated parents in Hampton Roads, VA.

FOR FURTHER INFORMATION CONTACT: Curtis O. Porter, Acting Associate Commissioner, Family and Youth Services Bureau, 1250 Maryland Avenue, SW., Washington, DC 20024, Phone: 202-205-8102.

Dated: September 29, 2008.
Joan E. Ohl,
Commissioner, Administration on Children, Youth and Families.

[FR Doc. E8-23481 Filed 10-3-08; 8:45 am]

BILLING CODE 4184-01-P